DEPARTMENT OF COMMERCE

International Trade Administration

[A-570-983]

Drawn Stainless Steel Sinks From the People's Republic of China: Preliminary Results of the Antidumping Duty Administrative Review and Preliminary Determination of No Shipments; 2017-2018

AGENCY: Enforcement and Compliance, International Trade Administration, Department of Commerce.

SUMMARY: The Department of Commerce (Commerce) preliminarily finds that certain companies made sales of subject merchandise at less than normal value during the period of review (POR), April 1, 2017, through March 31, 2018. We invite interested parties to comment on these preliminary results.

DATES: Applicable December 28, 2018.

FOR FURTHER INFORMATION CONTACT: Rebecca Janz or Joshua Tucker, AD/CVD Operations, Office II, Enforcement and Compliance, International Trade Administration, U.S. Department of Commerce, 1401 Constitution Avenue, NW, Washington, DC 20230; telephone: (202) 482-2972 or (202) 482-2044, respectively.

SUPPLEMENTARY INFORMATION:

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.¹

¹ For a complete description of the Scope of the Order, see Memorandum, “Decision Memorandum for Preliminary Results of the Antidumping Duty Administrative Review: Drawn Stainless Steel Sinks from the People's Republic of China,” issued concurrently with and hereby adopted by this notice (Preliminary Decision Memorandum).

Preliminary Determination of No Shipments

Based on our analysis of U.S. Customs and Border Production (CBP) information and information provided by the companies, we preliminarily determine that Zhuhai KOHLER Kitchen & Bathroom Products Co., Ltd. (Zhuhai KOHLER) and Yuyao Afa Kitchenware Co., Ltd. (Yuyao Afa) did not have any reviewable transactions during the POR. In addition, Commerce finds that, consistent with its assessment practice in non-market economy (NME) cases, it is appropriate not to rescind the review in part in these circumstances, but to complete the review with respect to these three companies and issue appropriate instructions to CBP based on the final results.² For additional information regarding this determination, see the Preliminary Decision Memorandum.

² See Non-Market Economy Antidumping Proceedings: Assessment of Antidumping Duties, 76 FR 65694, 65694-95 (October 24, 2011) (NME AD Assessment) and the “Assessment Rates” section, below.

With respect to Zhongshan Superte Kitchenware Co., Ltd. (Superte), we obtained information from CBP indicating that Superte had shipments during the POR, contradicting its no shipments certification. Thus, we preliminarily determine that Superte is part of the China-wide entity, and we will complete the review with respect to this company. For a full discussion of this determination, see the Preliminary Decision Memorandum.

Methodology

Commerce is conducting this review in accordance with section 751(a)(1)(B) of the Tariff Act of 1930, as amended (the Act). Because Feidong Import and Export Co., Ltd. (Feidong); Xinhe Stainless Steel Products Co., Ltd. (Xinhe); Jiangmen New Star Hi-Tech Enterprise Ltd. (New Star); and Ningbo Afa Kitchen and Bath Co., Ltd. (Ningbo Afa) did not participate in this segment of the proceeding, we preliminarily determine that they are ineligible for a separate rate and are part of the People's Republic of China (China)-wide entity, subject to the China-wide entity rate of 76.45 percent.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content. A list of topics included in the Preliminary Decision Memorandum is provided as an appendix to this notice.

Preliminary Results of Review

Commerce finds that the four mandatory respondents have not established eligibility for a separate rate and are considered to be part of China-wide entity for these preliminary results. Additionally, because Guangdong G-Top Import & Export Co., Ltd. (Guangdong G-Top) and Jiangmen Pioneer Import & Export Co., Ltd. (Jiangmen Pioneer) did not submit separate rate applications or certifications by the deadline established in the Initiation Notice or make a claim that they had no shipments of subject merchandise during the POR, we find that these companies failed to establish their entitlement to a separate rate and, therefore, remain part of the China-wide entity. Commerce's policy regarding conditional review of China-wide entity applies to this administrative review.³ Under this policy, the China-wide rate will not be under review unless a party requests, or Commerce self-initiates, a review of the entity. Because no party requested a review of China-wide entity, and Commerce did not self-initiate, the entity is not under review, and the entity's rate is not subject to change.

³ See Antidumping Proceedings: Announcement of Change in Department Practice for Respondent Selection in Antidumping Duty Proceedings and Conditional Review of the Nonmarket Economy Entity in NME Antidumping Duty Proceedings, 78 FR 65963 (November 4, 2013).

The statute and Commerce's regulations do not address what rate to apply to respondents who are not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually-examined respondents, excluding rates that are zero, de minimis, or based entirely on facts available. Section 735(c)(5)(B) of the Act provides that where all rates are zero, de minimis, or based entirely on facts available, Commerce may use “any reasonable method” for assigning a rate to non-examined respondents.

However, for these preliminary results, we have not calculated any individual rates or assigned a rate based on facts available. Therefore, consistent with our recent practice,⁴ we preliminary assigned to the four non-individually examined companies that demonstrated their eligibility for a separate rate the most recently assigned separate rate in this proceeding (i.e., 1.78 percent).⁵

⁴ See, e.g., Certain Frozen Warmwater Shrimp from the Socialist Republic of Vietnam: Preliminary Results of Antidumping Duty Administrative Review; 2015-2016, 81 FR 62717 (September 12, 2016), and accompanying Preliminary Decision Memorandum at 10-11, unchanged in Certain Frozen Warmwater Shrimp from the Socialist Republic of Vietnam: Final Results of Antidumping Duty Administrative Review; 2015-2016, 82 FR 11431 (February 23, 2017).

⁵ See Drawn Stainless Steel Sinks from the People's Republic of China: Final Results of Antidumping Duty Administrative Review; 2016-2017, 83 FR 23424, 23426 (June 23, 2017) (Sinks 4AR Final).

Commerce preliminarily determines that the following weighted-average dumping margins exist for the period April 1, 2017, through March 31, 2018:

Exporter | Weighted- average dumping margin (percent)
KaiPing Dawn Plumbing Products, Inc | 1.78
Guangdong New Shichu Import & Export Company Limited | 1.78
Elkay (China) Kitchen Solutions Co., Ltd | 1.78
B&R Industries Limited | 1.78

Disclosure and Public Comment

Normally, Commerce will disclose the calculations used in our analysis to parties in this review within five days of the date of publication of the notice of preliminary results in the Federal Register, in accordance with 19 CFR 351.224(b). However, here Commerce preliminary applied a separate rate ⁶ and China-wide rate ⁷ that were established in prior segments of the proceeding. Thus, there are no calculations on this record to disclose.

⁶ See Sinks 4AR Final.

⁷ See Drawn Stainless Steel Sinks from the People's Republic of China: Investigation, Final Determination, 78 FR 13019 (February 26, 2013).

Interested parties may submit case briefs no later than 30 days after the date of publication of these preliminary results of review.⁸ Rebuttals to case briefs may be filed no later than five days after the written comments are filed, and all rebuttal comments must be limited to comments raised in the case briefs.⁹

⁸ See 19 CFR 351.309(c).

⁹ See 19 CFR 351.309(d).

Any interested party may request a hearing within 30 days of publication of this notice.¹⁰ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW, Washington, DC 20230.¹¹

¹⁰ See 19 CFR 351.310(c).

¹¹ See 19 CFR 351.310(d).

Unless otherwise extended, Commerce intends to issue the final results of this administrative review, which will include the results of its analysis of issues raised in the case briefs, within 120 days of publication of these preliminary results, pursuant to section 751(a)(3)(A) of the Act.

Assessment Rates

Upon issuance of the final results, Commerce will determine, and CBP shall assess, antidumping duties on all appropriate entries covered by this review.¹² Commerce intends to issue appropriate assessment instructions to CBP 15 days after the publication of the final results of this review. For the companies receiving a separate rate, we intend to assign an assessment rate of 1.78 percent, consistent with the methodology described above. For the final results, if we continue to treat Guangdong G-Top, Jiangmen Pioneer, Superte, and the mandatory respondents as part of China-wide entity, we will instruct CBP to apply an ad valorem assessment rate of 76.45 percent to all entries of subject merchandise during the POR that were produced and/or exported by those companies. In addition, if we continue to find that Yuyao Afa and Zhuhai KOHLER had no shipments of the subject merchandise, any suspended entries of subject merchandise from these companies will be liquidated at China-wide rate.¹³

¹² See 19 CFR 351.212(b)(1).

¹³ For a full discussion of this practice, see NME AD Assessment.

Cash Deposit Requirements

The following cash deposit requirements will be effective upon publication of the final results of this administrative review for all shipments of the subject merchandise from China entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed Chinese and non-Chinese exporters that received a separate rate in a prior segment of this proceeding, the cash deposit rate will continue to be the existing exporter-specific rate; (3) for all Chinese exporters of subject merchandise that have not been found to be entitled to a separate rate, the cash deposit rate will be the rate for China-wide entity, which is 76.45 percent; and (4) for all non-Chinese exporters of subject merchandise that have not received their own rate, the cash deposit rate will be the rate applicable to Chinese exporter(s) that supplied that non-Chinese exporter. These deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in the Secretary's presumption that reimbursement of antidumping and/or countervailing duties occurred and the subsequent assessment of double antidumping duties.

We are issuing and publishing these preliminary results in accordance with sections 751(a)(l) and 777(i)(l) of the Act and 19 CFR 351.213.

Dated: December 20, 2018.
James Maeder,
Associate Deputy Assistant Secretary for Antidumping and Countervailing Duty Operations performing the duties of Deputy Assistant Secretary for Antidumping and Countervailing Duty Operations.

Appendix—List of Topics Discussed in the Preliminary Decision Memorandum

I. Summary

II. Background

III. Scope of the Order

IV. Discussion of Methodology

A. Preliminary Determination of No Shipments

B. Non-Market Economy Country Status

C. Separate Rates Determination

1. Absence of De Jure Control

2. Absence of De Facto Control

3. Companies Not Eligible for a Separate Rate

4. Separate Rate for Eligible, Non-Selected Companies

V. Recommendation

[FR Doc. 2018-28279 Filed 12-27-18; 8:45 am]

BILLING CODE 3510-DS-P